DEPARTMENT OF HEALTH AND HUMAN SERVICES

Indian Health Service

Reimbursement Rates for Calendar Year 2004

AGENCY: Indian Health Service, HHS.

ACTION: Notice.

SUMMARY: Notice is given that the Director of Indian Health Service (IHS), under the authority of sections 321(a) and 322(b) of the Public Health Service Act (42 U.S.C. 248(a) and 249(b)) and the Indian Health Care Improvement Act (25 U.S.C. 1601), has approved the following rates for inpatient and outpatient medical care provided by IHS facilities for Calendar Year 2004 for Medicare and Medicaid Beneficiaries and Beneficiaries of other Federal Agencies. The Medicare Part A inpatient rates are excluded from the table below as they are paid based on the prospective payment system. Since the inpatient rates set forth below do not include all physician services and practitioner services, additional payment may be available to the extent that those services meet applicable requirements. Legislation, effective July 1, 2001, allows IHS facilities to file Medicare claims with the carrier for payment for physician services.

Inpatient Hospital per Diem Rate (Excludes Physician Services) Calendar Year 2004
Lower 48 States | $1,512
Alaska | $1,837
Outpatient per Visit Rate (Excluding Medicare) Calendar Year 2004
Lower 48 States | Alaska | $402
Outpatient per Visit Rate (Medicare) Calendar Year 2004
Lower 48 States
Alaska | $367
Medicare Part B Inpatient Ancillary per Diem Rate Calendar Year 2004
Lower 48 States | $307
Alaska | $638

Outpatient Surgery Rate (Medicare)

Established Medicare rates for freestanding Ambulatory Surgery Centers.

Effective Date for Calendar Year 2004 Rates

Consistent with previous annual rate revisions, the Calendar Year 2004 rates will be effective for services provided on/or after January 1, 2004, to the extent consistent with payment authorities including the applicable Medicaid State plan.

Dated: February 3, 2004.
Charles W. Grim,
Assistant Surgeon General, Director, Indian Health Service.

Editorial Note: This document was received by the Office of the Federal Register on June 15, 2004.

[FR Doc. 04-13892 Filed 6-18-04; 8:45 am]

BILLING CODE 4160-16-P